ENVIRONMENTAL PROTECTION AGENCY

[FRL-9904-54-Region-5]

Proposed CERCLA Administrative Cost Recovery Settlement; Cadie Auto Salvage Site, Belvidere, Boone County, Illinois

AGENCY: Environmental Protection Agency (EPA).

ACTION: Notice; request for public comment.

SUMMARY: In accordance with the Comprehensive Environmental Response, Compensation, and Liability Act, as amended (“CERCLA”), notice is hereby given of a proposed administrative settlement for recovery of past response costs concerning the Cadie Auto Salvage Site in Belvidere, Boone County, Illinois with the following settling party: Helen E. Cadie. The settlement requires the owner Settling Party to pay a set percentage of the net proceeds from the sale of the Site. The settlement includes a covenant not to sue the Settling Party pursuant to CERCLA, contribution protection for the Settling Party pursuant to CERCLA, and a release of a CERCLA lien on the Site. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, Records Center, 77 W. Jackson Blvd., 7th Fl., and Chicago, Illinois 60604.

DATES: Comments must be submitted on or before January 23, 2014.

ADDRESSES: The proposed settlement is available for public inspection at the EPA, Region 5, Records Center, 77 W. Jackson Blvd., 7th Fl., Chicago, Illinois 60604. A copy of the proposed settlement may be obtained from Peter Felitti, Assoc. Regional Counsel, EPA, Office of Regional Counsel, Region 5, 77 W. Jackson Blvd., mail code: C-14J, Chicago, Illinois 60604. Comments should reference the Cadie Auto Salvage Site, Belvidere, Boone County, Illinois and EPA Docket No. and should be addressed to Peter Felitti, Assoc. Regional Counsel, EPA, Office of Regional Counsel, Region 5, 77 W. Jackson Blvd., mail code: C-14J, Chicago, Illinois 60604.

FOR FURTHER INFORMATION CONTACT: Peter Felitti, Assoc. Regional Counsel, EPA, Office of Regional Counsel, Region 5, 77 W. Jackson Blvd., mail code: C-14J, Chicago, Illinois 60604.

SUPPLEMENTARY INFORMATION: The Cadie Auto Salvage Superfund Site is located in Belvidere, Boone County, Illinois. After EPA received a request from the Illinois Environmental Protection Agency, U.S. EPA conducted an assessment of the Site and conducted a removal action. A total of 248 compressed gas cylinders on the Site were shipped off site for disposal as well as approximately 733 gallons of flammable liquids, two oz. of metallic mercury, ten tons of empty drums, eight tons of non-hazardous soil, 18 tons of hazardous soil, and fifty cans of waste aerosols. The work was completed on December 1, 2010. U.S. EPA issued a General Notice Letter to the Settling Party in September 2010. Between June 2010 and August 2013, EPA and the Settling Party negotiated the present proposed Administrative Settlement.

Dated: December 6, 2013.
Richard C. Karl,
Director, Superfund Division.

[FR Doc. 2013-30666 Filed 12-23-13; 8:45 am]

BILLING CODE 6560-50-P